DEPARTMENT OF LABOR

Employment and Training Administration

[TA-W-65,853]

Faurecia Exhaust Systems, Incorporated, Troy, OH; Notice of Termination of Investigation

Pursuant to Section 221 of the Trade Act of 1974, as amended, an investigation was initiated on April 27, 2009 in response to a petition filed by a company official on behalf of workers of Faurecia Exhaust Systems, Troy, Ohio.

The petitioner has requested that the petition be withdrawn. Therefore, the investigation under this petition has been terminated.

Signed at Washington, DC, this 18th day of May 2009.
Linda G. Poole,
Certifying Officer, Division of Trade Adjustment Assistance.

[FR Doc. E9-15299 Filed 6-26-09; 8:45 am]

BILLING CODE 4510-FN-P